DEPARTMENT OF TRANSPORTATION

National Highway Traffic Safety Administration

[Docket No. NHTSA-2012-0117; Notice 2]

Mazda North American Operations, Grant of Petition for Decision of Inconsequential Noncompliance

AGENCY: National Highway Traffic Safety Administration, DOT.

ACTION: Grant of Petition.

SUMMARY: Mazda North American Operations (MNAO),¹ on behalf of Mazda Motor Corporation of Hiroshima, Japan (Mazda),² has determined that certain Mazda brand motor vehicles manufactured between 2000 and 2012 for sale or lease in Puerto Rico, do not fully comply with paragraph S4.1 of Federal Motor Vehicle Safety Standard (FMVSS) No. 225, Child Restraint Anchorage Systems. MNAO has filed an appropriate report pursuant to 49 CFR Part 573, Defect and Noncompliance Responsibility and Reports, dated June 21, 2012.

¹ Mazda North American Operations is a U.S. company that manufacturers and imports motor vehicles.

² Mazda Motor Corporation is a Japanese company that manufacturers motor vehicles.

Pursuant to 49 U.S.C. 30118(d) and 30120(h) and the rule implementing those provisions at 49 CFR Part 556, MNAO has petitioned for an exemption from the notification and remedy requirements of 49 U.S.C. Chapter 301 on the basis that this noncompliance is inconsequential to motor vehicle safety.

Notice of receipt of MNAO's petition was published, with a 30-day public comment period, on September 28, 2012 in the Federal Register (77 FR 59703). No comments were received. To view the petition and all supporting documents log onto the Federal Docket Management System (FDMS) Web site at: http://www.regulations.gov/. Then follow the online search instructions to locate docket number “NHTSA-2012-0117.”

Contact Information: For further information on this decision contact Mr. Ed Chan, Office of Vehicle Safety Compliance, the National Highway Traffic Safety Administration (NHTSA), telephone (202) 493-0335.

Vehicles involved: Affected are approximately 60,509 Mazda brand motor vehicles manufactured between 2000 and 2012 for sale or lease in Puerto Rico.

Rule Text: Section § 4.1 of FMVSS No. 225 specifically states:

§ 4.1 Each Tether anchorage and each child restraint anchorage system installed, either voluntarily or pursuant to this standard, in any new vehicle manufactured on or after September 1, 1999, shall comply with the configuration, location, marking and strength requirements of this standard. The vehicle shall be delivered with written information, in English, on how to appropriately use those anchorages and systems.

Summary of MNAO's Analysis: MNAO explains that the noncompliance is that certain Mazda brand motor vehicles sold in Puerto Rico were not delivered with instructions on the use of child restraint tether anchorages written in English. The instructions were only provided in Spanish as part of the Spanish language version of the vehicle owner's manual provided with the vehicles at first sale. No English version owner's manuals were provided.

MNAO believes that while the noncompliant motor vehicles were delivered to Puerto Rico with owner's manuals written only in the Spanish language and did not include a written version in the English language as required by FMVSS No. 225, it is inconsequential as it relates to motor vehicle safety for the following reasons:

1. All affected owner's manuals contain accurate Spanish translations of the information.

2. In Puerto Rico, Spanish is the universally prevalent language. According to a U.S. Census done by the Census Bureau in 2010, 95.7% of the Puerto Rico's population speaks Spanish as their primary language.

3. NHTSA also has a long history of encouraging the dissemination of product information in languages that are useful for the vehicle owners. (See example http://isearch.nhtsa.gov/files/8047.html)

4. English Owner's manuals for Mazda motor vehicles manufactured on or after 2002 can be downloaded from MNAO's Web site or upon request through MNAO dealerships and is available for customers in Puerto Rico free of charge.

5. MNAO has not received any complaints or claims in Puerto Rico with regards to the language of the owner's manuals.

MNAO has additionally informed NHTSA that it has corrected future production and that all other motor vehicle owner's manuals are correct.

NHTSA Decision: NHTSA agrees with Mazda that the noncompliance is inconsequential to motor vehicle safety. MNAO has provided sufficient documentation that the language in the Owner's Manual is the primary language for Puerto Rico and does not present a safety risk.

In consideration of the foregoing, NHTSA has determined that MNAO has met its burden of persuasion that the subject FMVSS No. 225 noncompliance in the vehicles identified in MNAO's Noncompliance Information Report is inconsequential to motor vehicle safety. Accordingly, MNAO's petition is hereby granted and MNAO is exempted from the obligation of providing notification of, and a remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to approximately 60,509 vehicles that MNAO no longer controlled at the time that it determined that a noncompliance existed in the subject vehicles. However, the granting of this petition does not relieve vehicle distributors and dealers of the prohibitions on the sale, offer for sale, or introduction or delivery for introduction into interstate commerce of the noncompliant vehicles under their control after MNAO notified them that the subject noncompliance existed.

Authority: 49 U.S.C. 30118, 30120: delegations of authority at 49 CFR 1.95 and 501.8.

Issued on: June 18, 2013.
Claude H. Harris,
Director, Office of Vehicle Safety Compliance.

[FR Doc. 2013-14909 Filed 6-21-13; 8:45 am]

BILLING CODE 4910-59-P